DEPARTMENT OF EDUCATION

[Docket No.: ED-2016-ICCD-0100]

Agency Information Collection Activities; Comment Request; Gainful Employment Disclosure Template

AGENCY: Federal Student Aid (FSA), Department of Education (ED).

ACTION: Notice.

SUMMARY: In accordance with the Paperwork Reduction Act of 1995 (44 U.S.C. chapter 3501 et seq.), ED is proposing a revision of an existing information collection. In accordance with the requirements of § 668.412 of the Gainful Employment (GE) final regulations published in the Federal Register on October 31, 2014 (79 FR 64890), as corrected on December 4, 2014 (79 FR 71957), this collection describes the items that must be disclosed on the GE disclosure template.

DATES: Interested persons are invited to submit comments on or before November 14, 2016.

ADDRESSES: To access and review all the documents related to the information collection listed in this notice, please use http://www.regulations.gov by searching the Docket ID number ED-2016-ICCD-0100. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Gainful Employment Disclosure Template.

OMB Control Number: 1845-0107.

Type of Review: A revision of an existing information collection.

Respondents/Affected Public: State, Local, and Tribal Governments; Individuals or Households; Private Sector.

Total Estimated Number of Annual Responses: 27,944,411.

Total Estimated Number of Annual Burden Hours: 3,118,160.

Abstract: Under the new disclosure requirements, an institution must provide current and prospective students with information about each of its programs that prepares students for gainful employment in a recognized occupation (GE programs) using a disclosure template provided by the Secretary. The Secretary must specify the information to be included on the disclosure template in a notice published in the Federal Register. In accordance with the requirements of § 668.412 of the Gainful Employment (GE) final regulations published in the Federal Register on October 31, 2014 (79 FR 64890), as corrected on December 4, 2014 (79 FR 71957), this collection describes the items that must be disclosed on the GE disclosure template. This request revises the current information collection for the disclosure template to reflect the new disclosure requirements and provides notice of the information that institutions must disclose. The Department is further requesting that burden currently calculated for 1845-0107 be discharged and transfer the burden already calculated for § 668.412 regarding the GE disclosure requirements from 1845-0123 to this information collection.

Dated: September 8, 2016.
Kate Mullan,
Acting Director, Information Collection Clearance Division, Office of the Chief Privacy Officer, Office of Management.

[FR Doc. 2016-21940 Filed 9-12-16; 8:45 am]

BILLING CODE 4000-01-P